DEPARTMENT OF AGRICULTURE

Forest Service

Willamette National Forest, Sweet Home Ranger District; Oregon; Trout Creek Project

AGENCY: Forest Service, USDA.

ACTION: Notice of intent to prepare an environmental impact statement.

SUMMARY: The Trout Creek Project is proposed to encourage stand health, vigor, species diversity and structural complexity in the Matrix, Adaptive Management Area (AMA), and Riparian Reserves; contribute a variety of sustainable forest products to local markets; increase spatial heterogeneity, including complex early seral habitat, at a landscape scale by mimicking mixed severity fire; improve fire resiliency and strategically manage hazardous fuels in high risk areas that could adversely affect the integrity of adjacent privately owned lands, Late Successional Reserves (LSR), Matrix, AMA, and Riparian Reserve lands and to enhance hardwood habitat and diversity. Proposed activities to achieve the purpose of the project inculde forest management treatments across approximately 1,670 acres (about 4.5% of the analyzed landscape). Treatments include approximately 733 acres of variable forest thinning (including 109 acres of Riparian Reserve thinning) and approximately 101 acres of regeneration harvesting that would include aggregate retention. Additionally, approximately 370 acres of non-commercial treatments are proposed including fall and leave treatments, snag creation, underplanting of native conifers, the planting of special forest products, and the restoration of a 2-acre meadow. Road work would also be part of the actions associated with the proposed activities and would include road maintenance/reconstruction (48.5 miles), temporary road construction (4 miles), new road construction (less than 1 mile), road decommissioning (7 miles) and the expansion or establishment of 2 new rock pits.

DATES: Comments concerning the scope of the analysis must be received by February 15, 2017. The draft environmental impact statement is expected July 2017 and the final environmental impact statement is expected May 2018.

ADDRESSES: Send written comments to 4431 Highway 20, Sweet Home, OR 97386. Comments may also be submitted online at https://cara.ecosystem-management.org/Public//CommentInput?Project=46279.

FOR FURTHER INFORMATION CONTACT: Joanie Schmidgall at jschmidgall02@fs.fed.us or at 541-367-3809

Individuals who use telecommunication devices for the deaf (TDD) may call the Federal Information Relay Service (FIRS) at 1-800-877-8339 between 8 a.m. and 8 p.m., Eastern Time, Monday through Friday.

SUPPLEMENTARY INFORMATION:

Purpose and Need for Action

The Trout Creek project is approximately 37,344 acres in size and located approximately 20 miles east of the town of Sweet Home, Oregon. The project encompasses an area both to the north and south of Highway 20. The purposes of the project are to encourage stand health, vigor, species diversity and structural complexity in the Matrix, Adaptive Management Area (AMA), and Riparian Reserves; contribute a variety of sustainable forest products to local markets; increase spatial heterogeneity, including complex early seral habitat, at a landscape scale by mimicking mixed severity fire; improve fire resiliency and strategically manage hazardous fuels in high risk areas that could adversely affect the integrity of adjacent privately owned lands, Late Successional Reserves (LSR), Matrix, AMA, and Riparian Reserve lands; enhance and create hardwood habitat and diversity.

The district resource specialists reviewed this landscape and identified it to have the greatest need across the Sweet Home Ranger District for work that would benefit forest health and diversity. Many of the forested stands in the project area are overstocked from a silviculture perspective. There is opportunity to thin, reduce the number of trees and increase the diversity and structure of the remaining forest over time. Additionally, the project area includes a portion of the Menagerie Wilderness and is adjacent to a large swath of private land. This interface of public and private ownership has resulted in neighboring parcels of land with differing management objectives and fuel loads. This project presents an opportunity to reduce the risk of fires spreading across these landscapes through strategically-placed fuel treatments. No management activities are proposed within the wilderness boundary.

Proposed Action

We propose to thin approximately 733 acres (about 2% of the project area) and regenerate approximately 101 acres (less than 1% of the project area). Thinning treatments will be prescribed at varying frequencies and incorporate some untreated areas (skips) and create gaps up to 2 acres in size with variable spacing of remaining trees. We would design the regeneration harvest using an aggregate retention prescription to increase forest-age diversity and structural complexity across the project area.

There are two categories of stands proposed for treatment: Managed stands that are about 40-60 years old and fire origin stands that range from 100-150 years old. Approximately 576 acres of thinning and 52 acres of regeneration would take place in managed stands and 157 of thinning and 49 acres of regeneration acres in fire origin stands. These actions will provide roughly 12 MMBF of timber products to the local community. Cedar, sugar pine and other minor species would be under planted on about 300 acres across the project area. Additionally, about 38 acres would be planted with desirable conifer bough species for future bough harvest. There would be 109 acres thinned in the Riparian Reserves in the managed stands. The older fire origin stands would see no thinning in the Riparian Reserves. We propose thinning harvests in managed stands within the Riparian Reserves to increase in-stream productivity by increasing hardwood species and light availability. About 8 acres of fall and leave treatments are also proposed to improve hardwood diversity and structure in the Riparian Reserve.

This project also aims to increase spatial heterogeneity and complex early seral habitat by mimicking mixed severity fire on a landscape scale. On 309 acres of managed stands a combination of thinning, aggregate retention harvest, gap creation and controlled burn would result in a diverse landscape of green trees and openings. The treatments will vary by unit. In the fire origin stands, 47 acres would be treated to mimic high severity fire using a combination of commercial thinning, underburning and varying levels of tree girdling. An unburned area or low severity fire patch would be simulated by a proposed 65 acres of untreated skips.

Hardwood fuel breaks, where conifers are thinned heavily and hardwood species are planted, are proposed on about 35 acres in managed stands and 76 acres of fire origin stands. This will help curb the volume of hazardous fuels in these stands, provide a long term option for managing wildfires in the area, and further improve fire resiliency in and adjacent to the project area. A 14 acre managed stand in Late Successional Reserve is also proposed to be treated in this way to help protect an Oregon Department of Transportation facility.

Additionally, approximately 370 acres of non-commerical treatments are proposed across the project area. These include the fall and leave treatments, snag creation for oak and madrone restoration, underplanting of native conifers such as sugar pine and cedar, the planting of special forest products, and the restoration of a 2-acre meadow. While not adding commerical value, these actions will restore and maintain hardwood populations, increase forest diversity and structure, and contribute to over all landscape health in the project area.

The removal of forest products would include associated road work across the project area. The project would propose approximately 50 miles of road maintenance or reconstruction that would include the installation of approximately 260 culverts (primarily replacements). There would be less than 1 mile of new road construction. Construction or reconstruction of temporary road access would be approxiately 4 miles. These temporary roads would be decommissioned and returned to their original condition at the conclusion of project activities. Also proposed would be to decommission and hydrologically stabilize approximately 7 miles of road. The impacted roads for decommissioning would be existing Forest Sevice roads 2000-011, 2000-600, 632, 636, 641, and 643, 2000-308, 2000-017, 2032-419, and 2027-830. Most of these roads or sections of road are currently inaccessible to vehicle traffic. A rock pit would be developed near the 2027-825 road junction and an existing rock pit would be expanded at the end of the 2027-730 road.

Responsible Official

Nikki Swanson, Sweet Home District Ranger

Nature of Decision To Be Made

Given the purpose and need, the scope of the decision to be made by the responsible official will be as follows:

• Do the proposed actions comply with all applicable laws governing Forest Service actions?

• Do the proposed actions comply with the applicable Standards and Guidelines found in the Willamette Land and Resource Management plan (LRMP)?

○ If not, will the action ammend the LRMP?

• Does the environmental impact statement have suffcient site-specific environmental analysis to make an informed decesion?

• Do the proposed actions meet the purpose and need for action?

With these assurances, the responsible official must decide:

• Whether or not to select the proposed action or one of any other potential alternatives that may be developed, and what, if any, additional actions should be required.

Scoping Process

This Notice of Intent initiates the scoping process, which guides the development of the environmental impact statement. We are interested in your comments on the following questions:

• Are there alternative ways to meet the purpose and need of the project other than the proposed action we offer, which you would like the Forest Service to consider and analyze?

• Is there any information about the project area, which you believe is important in the context of the proposed activities that you would like the Forest Service to consider?

• What specifically are the potential effects of this proposed action that you are particularly concerned about? For example: Rather that simply stating that you would like a change in a proposed activity or that you would like an activity to not occur, it is more helpful to understand why you desire this. What are your underlying concerns with an activity or action; what are the effects from the activity that concern you?

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will also be accepted and considered.

Dated: January 12, 2017.
Nikki Swanson,
District Ranger.

[FR Doc. 2017-01343 Filed 1-19-17; 8:45 am]

BILLING CODE 3410-11-P